DEPARTMENT OF COMMERCE

[I.D. 040700LE]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: South Florida Artificial and Natural Reefs-Economic Valuation Study.

Form Number(s): None.

OMB Approval Number: None.

Type of Request: New collection.

Burden Hours: 2,733.

Number of Respondents: 9,600.

Average Hours Per Response: 4 minutes to 1 hour depending on requirement.

Needs and Uses: The Florida Keys National Marine Sanctuary, along with the State of Florida, manage coastal and ocean resources. This study involves artificial and natural reefs off the coasts of southeast Florida. NOAA, the four south Florida counties (Broward, Miami-Dade, Monroe and Palm Beach) and the State of Florida have formed a partnership and are funding a study to estimate the market economic impact (e.g., sales/output, income and employment) and non-market economic value (consumer's surplus) of both artificial and natural reefs in south Florida. The State of Florida has an artificial reef program in which each coastal county can participate. Each county can apply for state funds to place artificial reefs off the coasts of their county and private groups wanting to sink artificial reefs can also participate. The counties and the State of Florida are under increasing pressure to add new artificial reefs and economic justification is required.

Affected Public: Individuals or households and businesses or other for-profit organizations.

Frequency: One-time.

Respondent's Obligation: Voluntary.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: April 5, 2000.
Linda Engelmeier,
Departmental Forms Clearance Officer, Office of the Chief Information Officer.

[FR Doc. 00-9122 Filed 4-12-00; 8:45 am]

BILLING CODE 3510-08-F